DEPARTMENT OF ENERGY

Federal Energy Regulatory Commission

[Docket No. EL15-11-000]

San Diego Gas & Electric Company; Notice of Petition for Declaratory Order

Take notice that on October 29, 2014, San Diego Gas & Electric Company (SDG&E), pursuant to Rule 207 of the Rules of Practice and Procedures of the Federal Energy Regulatory Commission (FERC or Commission), 18 CFR 385.207, section 219 of the Federal Power Act, 16 U.S.C. 824(s), and Order No. 679,¹ San Diego Gas & Electric Company filed a petition for declaratory order requesting authorization of incentive treatments for the Sycamore Canyon-Peñasquitos transmission line project (the Project). SDG&E requests incentive rate treatments for application to the project that will (1) authorize recovery of one hundred percent of all prudently-incurred development and construction costs if the Project is abandoned or cancelled, in whole or in part, for reasons beyond SDG&E's control (Abandonment), and (2) a one hundred basis points adder to SDG&E's Return On Equity (ROE) for the Project, as more fully explained in the petition.

¹ Promoting Transmission Investment through Pricing Reform, Order No. 679, 71 FR 43294 (Jul. 31, 2006), FERC Stats. & Regs. ¶ 31,222 (2006) (“Order No. 679”), order on reh'g, Order No. 679-A, 72 FR 1152 (Jan. 10, 2007), FERC Stats. & Regs. ¶ 31,236 (“Order No. 679-A”), order on reh'g, 119 FERC ¶ 61,062 (2007).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on November 28, 2014.

Dated: October 31, 2014.
Nathaniel J. Davis, Sr.,
Deputy Secretary.

[FR Doc. 2014-26564 Filed 11-7-14; 8:45 am]

BILLING CODE 6717-01-P